DEPARTMENT OF LABOR

Employment and Training Administration

[TA-W-55,302]

Olsonite Corporation, Newnan, GA; Notice of Termination of Investigation

Pursuant to section 221 of the Trade Act of 1974, an investigation was initiated on July 22, 2004 in response to a worker petition which was filed by the UNITE! Southern Regional Joint Board of Georgia on behalf of workers at Olsonite Corporation, Newnan, Georgia.

The petitioner has requested that the petition be withdrawn. Consequently, the investigation has been terminated.

Signed in Washington, DC this 9th day of August, 2004.
Richard Church,
Certifying Officer, Division of Trade Adjustment Assistance.

[FR Doc. 04-19092 Filed 8-19-04; 8:45 am]

BILLING CODE 4510-30-P